Title 3—

The President

Proclamation 8371 of May 4, 2009

Older Americans Month, 2009

By the President of the United States of America

A Proclamation

Older Americans have carried our Nation through great challenges and triumphs. They have enriched our national character and strengthened the Republic for those who have followed. During the month of May, we pay tribute to the wisest among us.

Throughout the land, older Americans are strengthening our communities and the American way of life. Many senior citizens remain in the workforce to support themselves and their families. Others are embarking on second careers and exploring new interests and fields of knowledge. Inspiring citizens of all ages, many serve as advocates and volunteers in community service roles. In this important work, they make a real difference in the daily lives of fellow citizens of all ages, while promoting and strengthening the American spirit of civic participation.

My Administration is working to create opportunities for older Americans to share their skills and wisdom with younger generations. One of the bills I recently signed into law, the Edward M. Kennedy Serve America Act, expands and improves service opportunities for older Americans. Our Nation can benefit greatly from the experience and hard work of our older Americans, and I am committed to providing service opportunities to achieve this end.

We owe older Americans a debt of gratitude and must work to help them age with dignity. Through home- and community-based services, including health promotion and preventive care programs, many older Americans are able to live more independent and healthier lives. This year’s theme for Older Americans Month, “Living Today for a Better Tomorrow,” captures the importance of helping seniors today so they can enjoy the years ahead.

My Administration is committed to supporting older Americans and is working to strengthen health care, retirement, community involvement, and other programs vital to their interests and beneficial to all of us. Older Americans have earned this support, and we owe them nothing less.

NOW, THEREFORE, I, BARACK OBAMA, President of the United States of America, by virtue of the authority vested in me by the Constitution and laws of the United States, do hereby proclaim May 2009 as Older Americans Month. I invite Americans of all ages; representatives of government at all levels; businesses and communities; faith-based and neighborhood organizations; and health, academic, and recreational institutions to acknowledge the contributions of older Americans during this month and throughout the year.

IN WITNESS WHEREOF, I have hereunto set my hand this fourth day of May, in the year of our Lord two thousand nine, and of the Independence of the United States of America the two hundred and thirty-third.

[FR Doc. E9-10859

Filed 5-6-09; 8:45 am]

Billing code 3195-W9-P